DEPARTMENT OF COMMERCE

International Trade Administration

(A-549-817)

Partial Rescission of Antidumping Duty Administrative Review: Certain Hot-Rolled Carbon Steel Flat Products from Thailand

AGENCY: Import Administration, International Trade Administration, Department of Commerce.

SUMMARY: In response to a request by United States Steel Corporation (petitioner) and Nucor Corporation (Nucor), a domestic interested party, the U.S. Department of Commerce (the Department) initiated an administrative review of the antidumping duty order on certain hot-rolled carbon steel flat products from Thailand with respect to Sahaviriya Steel Industries Public Company Limited (SSI) and Nakornthai Strip Mill Public Co., Ltd. (NSM).¹ No other interested party requested a review with respect to SSI. The period of review is November 1, 2004, through October 31, 2005. On March 22, 2006, petitioner and Nucor withdrew their request for an administrative review of SSI. Accordingly, the Department is now rescinding the administrative review of SSI, while continuing the review with respect to NSM.

¹ The Department notes that only petitioner requested a review of NSM.

EFFECTIVE DATE: April 28, 2006.

FOR FURTHER INFORMATION CONTACT: Stephen Bailey, AD/CVD Operations, Office 7, Import Administration, U.S. Department of Commerce, 14th Street and Constitution Avenue, NW, Washington, DC 20230; telephone: (202) 482-0193.

SUPPLEMENTARY INFORMATION:

Background

On November 29, 2001, the Department published the antidumping duty order on certain hot-rolled carbon steel flat products from Thailand. See Antidumping Duty Order: Certain Hot-Rolled Carbon Steel Flat Products from Thailand, 66 FR 59562 (November 29, 2001).

On November 1, 2005, the Department published in the Federal Register a notice of opportunity to request an administrative review of the antidumping duty order covering certain hot-rolled carbon steel flat products from Thailand. See Antidumping or Countervailing Duty Order, Finding, or Suspended Investigation; Opportunity to Request Administrative Review, 70 FR 65883 (November 1, 2005). On November 30, 2005, the Department received a timely request from petitioner and Nucor for an administrative review of the antidumping duty order on certain hot-rolled carbon steel flat products from Thailand with respect to SSI. On December 22, 2005, in accordance with section 751(a) of the Tariff Act of 1930, as amended (the Act), the Department published a notice of initiation of the administrative review of SSI, covering the period November 1, 2004, through October 31, 2005. See Initiation of Antidumping and Countervailing Duty Administrative Reviews and Request for Revocation in Part, 70 FR 76024 (December 22, 2005).

On January 3, 2006, the Department released the antidumping duty questionnaire to SSI. On March 22, 2006, petitioner and Nucor withdrew their request in a timely manner for an administrative review of SSI. No other party had requested a review of SSI.

Rescission of the Administrative Review

Pursuant to the Department's regulations, the Department will rescind an administrative review “if a party that requested a review withdraws the request within 90 days of the date of publication of the notice of initiation of the requested review.” See 19 CFR 351.213(d)(1). Because petitioner and Nucor withdrew their request for an administrative review for SSI on March 22, 2006, which is within the 90-day deadline, and no other party requested a review of SSI, the Department is rescinding this administrative review with respect to SSI in accordance with 19 CFR 351.213(d)(1). The administrative review with respect to NSM will continue. The Department will issue appropriate assessment instructions to U.S. Customs and Border Protection within 15 days of publication of this notice.

Notification Regarding APOs

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

The Department is issuing and publishing this notice in accordance with section 777(i) of the Act and 19 CFR 351.213(d)(4).

Dated: April 21, 2006.
Stephen J. Claeys,
Deputy Assistant Secretary for Import Administration.

[FR Doc. E6-6437 Filed 4-27-06; 8:45 am]

BILLING CODE 3510-DS-S